DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2017 New York City Housing and Vacancy Survey.

OMB Control Number: 0607-0757.

Form Number(s): H-100, H-100(SP), H-100A, H-100A(SP), H-108, H-100(L), H-100L(A).

Type of Request: Reinstatement, with change, of a previously Approved collection for which approval has expired.

Number of Respondents: 19,000.

Average Hours per Response: 0.5 hours.

Burden Hours: 9,396.

Needs and Uses: The Census Bureau will conduct the survey for the City of New York in order to determine the vacancy rate of rental housing stock, which the city uses to enact specific policies. New York City will also use the data to help measure the quality of its housing, and learn specific demographic characteristics about the city's residents.

Affected Public: Primarily households and some rental offices/realtors (for vacants).

Frequency: Every three years.

Respondent's Obligation: Voluntary.

Legal Authority: Title 13 U.S.C.—Section 8b and Local Emergency Housing Rent Control Act, Laws of New York (Chapters 8603 and 657).

This information collection request may be viewed at www.reginfo.gov. Follow the instructions to view Department of Commerce collections currently under review by OMB.

Written comments and recommendations for the proposed information collection should be sent within 30 days of publication of this notice to OIRA_Submission@omb.eop.gov or faxed to (202) 395-5806.

Dated: March 28, 2016.
Glenna Mickelson,
Management Analyst, Office of the Chief Information Officer.

[FR Doc. 2016-07298 Filed 3-30-16; 8:45 am]

BILLING CODE 3510-07-P